DEPARTMENT OF ENERGY

Federal Energy Regulatory Commission

Combined Notice of Filings #1

January 04, 2010.

Take notice that the Commission received the following electric rate filings:

Docket Numbers: ER97-4084-011.

Applicants: Denver City Energy Associates, L.P.

Description: Denver City Energy Associates, LP submits compliance filing under Order 697 and Request for Category 2 Seller Status.

Filed Date: 12/22/2009.

Accession Number: 20091230-0075.

Comment Date: 5 p.m. Eastern Time on Monday, February 22, 2010.

Docket Numbers: ER99-2984-014.

Applicants: Green Country Energy, LLC.

Description: Market Power Update of Green Country Energy, LLC.

Filed Date: 12/31/2009.

Accession Number: 20091231-5008.

Comment Date: 5 p.m. Eastern Time on Monday, March 01, 2010.

Docket Numbers: ER00-3614-013.

Applicants: BP Energy Company.

Description: Market Power Update of BP Energy Company.

Filed Date: 12/31/2009.

Accession Number: 20091231-5090.

Comment Date: 5 p.m. Eastern Time on Thursday, January 21, 2010.

Docket Numbers: ER02-1406-014; ER01-1099-013; ER99-2928-010.

Applicants: Acadia Power Partners, LLC; Cleco Power LLC; Cleco Evangeline LLC.

Description: Cleco Power LLC submits filing to supplement their updated market power analysis.

Filed Date: 12/30/2009.

Accession Number: 20091231-0102.

Comment Date: 5 p.m. Eastern Time on Wednesday, January 20, 2010.

Docket Numbers: ER03-719-013; ER98-830-022; ER03-721-012.

Applicants: Millennium Power Partners, L.P., New Harquahala Generating Company, LLC, New Athens Generating Company, LLC.

Description: Revised notice of non-material change in status of New Athens Generating Company, LLC, et al.

Filed Date: 12/30/2009.

Accession Number: 20091230-5090.

Comment Date: 5 p.m. Eastern Time on Wednesday, January 20, 2010.

Docket Numbers: ER05-1491-003.

Applicants: Vermont Yankee Nuclear Power Corporation.

Description: Vermont Yankee Nuclear Power Corporation submits compliance filing.

Filed Date: 12/24/2009.

Accession Number: 20091230-0034.

Comment Date: 5 p.m. Eastern Time on Thursday, January 14, 2010.

Docket Numbers: ER07-357-006.

Applicants: Fenton Power Partners I, LLC.

Description: Fenton Power Partners, I, LLC submits Substitute Second Revised Sheet 4 et al. to FERC Electric Tariff, Original Volume 1.

Filed Date: 12/08/2009.

Accession Number: 20091210-0102.

Comment Date: 5 p.m. Eastern Time on Monday, January 11, 2009.

Docket Numbers: ER08-1225-007; ER08-1111-006; ER08-1226-005.

Applicants: Cloud County Wind Farm, LLC, Pioneer Prairie Wind Farm I, LLC, Arlington Wind Power Project LLC.

Description: Notice of change in status filing under part 35 of FERC's regulations of Arlington Wind Power Project LLC, et al.

Filed Date: 12/30/2009.

Accession Number: 20091230-5141.

Comment Date: 5 p.m. Eastern Time on Wednesday, January 20, 2010.

Docket Numbers: ER09-1321-003.

Applicants: Blue Canyon Windpower V LLC.

Description: Notice of change in status filing under part 35 of FERC's regulations of Blue Canyon Windpower V LLC.

Filed Date: 12/30/2009.

Accession Number: 20091230-5089.

Comment Date: 5 p.m. Eastern Time on Wednesday, January 20, 2010.

Docket Numbers: ER10-78-001.

Applicants: Orange Grove Energy, L.P.

Description: Orange Grover Energy, LP submits a sub. page of its proposed tariff to correct an incorrect page number and an amended version of attachment B etc.

Filed Date: 12/28/2009.

Accession Number: 20091230-0035.

Comment Date: 5 p.m. Eastern Time on Tuesday, January 19, 2010.

Docket Numbers: ER10-434-000.

Applicants: CPI USA North Carolina LLC.

Description: CPI USA North Carolina LLC submits a Notice of Succession informing the Commission that CPI adopts EPCOR USA NC's market-based rate tariff as its own etc.

Filed Date: 12/15/2009.

Accession Number: 20091217-0195.

Comment Date: 5 p.m. Eastern Time on Tuesday, January 19, 2010.

Docket Numbers: ER10-440-000.

Applicants: PacifiCorp.

Description: PacifiCorp submits the Fiber Communications Addition Agreement.

Filed Date: 12/16/2009.

Accession Number: 20091218-0211

Comment Date: 5 p.m. Eastern Time on Monday, January 11, 2010.

Docket Numbers: ER10-450-001; ER01-1044-014; ER00-3696-013; ER01-3109-014; ER02-506-013; ER03-1383-016; ER07-1000-005; ER09-1491-001; ER96-1947-027; ER98-2783-017; ER99-2157-014.

Applicants: Bluegrass Generation Company, LLC, Las Vegas Power Company, LLC, DeSoto County Generating Company, LLC, Griffith Energy LLC, Bridgeport Energy, LLC, Rocky Road Power, LLC, Riverside Generating Company, LLC, LS Power Marketing, LLC, Renaissance Power, LLC, Tilton Energy LLC, Arlington Valley, LLC.

Description: Notification of Change in Status of Arlington Valley, LLC, et al.

Filed Date: 12/30/2009.

Accession Number: 20091230-5082.

Comment Date: 5 p.m. Eastern Time on Wednesday, January 20, 2010.

Docket Numbers: ER10-469-000.

Applicants: Northeast Utilities Service Company.

Description: NU Companies submits tariff sheets for the termination of two interconnection agreements.

Filed Date: 12/22/2009.

Accession Number: 20091224-0005.

Comment Date: 5 p.m. Eastern Time on Tuesday, January 12, 2010.

Docket Numbers: ER10-470-000.

Applicants: Southwest Power Pool, Inc.

Description: Southwest Power Pool, Inc submits a Network Integration Transmission Service Agreement.

Filed Date: 12/22/2009.

Accession Number: 20091224-0004.

Comment Date: 5 p.m. Eastern Time on Tuesday, January 12, 2010.

Docket Numbers: ER10-471-000.

Applicants: Duke Energy Carolinas, LLC.

Description: Duke Energy Carolinas, LLC submits Rate Schedule 336, the Power Purchaser Agreements between Duke Energy Carolinas, LLC and Central Electric Power Cooperative, Inc.

Filed Date: 12/22/2009.

Accession Number: 20091224-0008.

Comment Date: 5 p.m. Eastern Time on Tuesday, January 12, 2010.

Docket Numbers: ER10-473-000.

Applicants: The United Illuminating Company.

Description: The United Illuminating Company submits Notice of Termination of the Localized Costs Sharing Agreement.

Filed Date: 12/22/2009.

Accession Number: 20091224-0002.

Comment Date: 5 p.m. Eastern Time on Tuesday, January 12, 2010.

Docket Numbers: ER10-474-000.

Applicants: San Diego Gas & Electric Company.

Description: San Diego Gas & Electric Co submits Ninth Revised Sheet No. 121 et al. to FERC Electric Tariff, Original Volume No. 11.

Filed Date: 12/22/2009.

Accession Number: 20091224-0003.

Comment Date: 5 p.m. Eastern Time on Tuesday, January 12, 2010.

Docket Numbers: ER10-475-000.

Applicants: PJM Interconnection, LLC.

Description: PJM Interconnection, LLC submits executed interconnection service agreement among PJM as the Transmission Provider et al. as the Interconnected Transmission Owner etc.

Filed Date: 12/22/2009.

Accession Number: 20091224-0082.

Comment Date: 5 p.m. Eastern Time on Tuesday, January 12, 2010.

Docket Numbers: ER10-478-000.

Applicants: PJM Interconnection, LLC.

Description: PJM Interconnection, LLC submits revised tariff sheets of the PJM Open Access Transmission Tariff.

Filed Date: 12/23/2009.

Accession Number: 20091224-0080.

Comment Date: 5 p.m. Eastern Time on Wednesday, January 13, 2010.

Docket Numbers: ER10-479-000.

Applicants: California Independent System Operator Corporation.

Description: California Independent System Operator Corporation submits a proposed ISO Tariff amendment that will enable the ISO to procure incremental Ancillary Services from external Non-Dynamic System etc.

Filed Date: 12/22/2009.

Accession Number: 20091224-0079.

Comment Date: 5 p.m. Eastern Time on Tuesday, January 12, 2010.

Docket Numbers: ER10-480-000.

Applicants: PacifiCorp.

Description: PacifiCorp submits an updated Interconnection Agreement wit the State of California Department of Water Resources designated as First Revised Rate Schedule FERC 241.

Filed Date: 12/23/2009.

Accession Number: 20091224-0078.

Comment Date: 5 p.m. Eastern Time on Wednesday, January 13, 2010.

Docket Numbers: ER10-482-000; ER10-483-000; ER10-484-000; ER10-485-000; ER10-486-000; ER10-487-000; ER10-488-000; ER10-489-000; ER10-490-000; ER10-491-000; ER10-492-000; ER10-493-000; ER10-494-000.

Applicants: Duke Energy Commercial Enterprises, Inc.; CinCap IV, LLC; CinCap V LLC; Cinergy Capital & Trading, Inc.; Cinergy Power Investments, Inc.; St. Paul Congeneration, LLC; Duke Energy Trading & Marketing, LLC; CinCap IV, LLC; Cincap V, LLC; Cinergy Capital & Trading, Inc.; Cinergy Power Investments, Inc.; St. Paul Cogeneration, LLC; Duke Energy Trading and Marketing, LLC.

Description: Duke Energy Commercial Enterprises, Inc submits FERC Electric notice of succession and clean copy of DECE's FERC Electric Rate Schedule 1 effective 11/25/09.

Filed Date: 12/22/2009.

Accession Number: 20091224-0077.

Comment Date: 5 p.m. Eastern Time on Tuesday, January 12, 2010.

Docket Numbers: ER10-497-000.

Applicants: Niagara Mohawk Power Corporation.

Description: Niagara Mohawk Power Corp submits a Notice of Cancellation of Service Agreement No. 41 et al.

Filed Date: 12/23/2009.

Accession Number: 20091224-0075.

Comment Date: 5 p.m. Eastern Time on Wednesday, January 13, 2010.

Docket Numbers: ER10-511-000.

Applicants: Southwest Power Pool, Inc.

Description: Southwest Power Pool, Inc submits an executed service agreement for Network Integration Transmission Service between Southwest Power Pool, Inc et al.

Filed Date: 12/29/2009.

Accession Number: 20091230-0074.

Comment Date: 5 p.m. Eastern Time on Tuesday, January 19, 2010.

Docket Numbers: ER10-512-000.

Applicants: Southwest Power Pool, Inc.

Description: Southwest Power Pool, Inc submits an executed Meter Agent Service agreement with Lincoln Electric System etc.

Filed Date: 12/29/2009.

Accession Number: 20091230-0073.

Comment Date: 5 p.m. Eastern Time on Tuesday, January 19, 2010.

Docket Numbers: ER10-513-000.

Applicants: Southwest Power Pool, Inc.

Description: Southwest Power Pool, Inc submits an executed service agreement for Firm Point-to-Point Transmission Service between Southwest Power Pool, Inc et al.

Filed Date: 12/29/2009.

Accession Number: 20091230-0072.

Comment Date: 5 p.m. Eastern Time on Tuesday, January 19, 2010.

Docket Numbers: ER10-514-000.

Applicants: Midwest Independent Transmission System Operator, Inc.

Description: Midwest Independent Transmission System Operator, Inc submits their Adjacent Balancing Authority Coordination Agreement with the Big Rivers Electric Corporation etc.

Filed Date: 12/29/2009.

Accession Number: 20091230-0071.

Comment Date: 5 p.m. Eastern Time on Tuesday, January 19, 2010.

Docket Numbers: ER10-515-000.

Applicants: Xcel Energy Services Inc.

Description: Southwestern Public Service Company submits an executed copy of the Second Amended and Restated Transaction Agreement.

Filed Date: 12/28/2009.

Accession Number: 20091231-0038.

Comment Date: 5 p.m. Eastern Time on Tuesday, January 19, 2010.

Docket Numbers: ER10-516-000.

Applicants: South Carolina Electric & Gas Company.

Description: South Carolina Electric & Gas Company submits revised tariff sheets changing the transmission rates under SCE&G's Open Access Transmission Tariff.

Filed Date: 12/29/2009.

Accession Number: 20091231-0037.

Comment Date: 5 p.m. Eastern Time on Tuesday, January 19, 2010.

Docket Numbers: ER10-518-000.

Applicants: Southwest Power Pool, Inc.

Description: Southwest Power Pool, Inc submits an executed Service Agreement for Network Integration Transmission Service between SPP as Transmission Provider and Westar Energy.

Filed Date: 12/30/2009.

Accession Number: 20091231-0045.

Comment Date: 5 p.m. Eastern Time on Wednesday, January 20, 2010.

Docket Numbers: ER10-523-000.

Applicants: New England Power Company.

Description: New England Power Company submits Amendments to Integrated Facilities Agreements and Service Agreements under FERC Electric Tariff, Original Volume 1.

Filed Date: 12/30/2009.

Accession Number: 20091231-0231.

Comment Date: 5 p.m. Eastern Time on Wednesday, January 20, 2010.

Docket Numbers: ER10-524-000; ER10-525-000; ER10-526-000; ER10-527-000; ER10-528-000.

Applicants: Idaho Power Company; Deseret Generation & Transmission Co-op.; NorthWestern Corporation; PacifiCorp; Portland General Electric Company.

Description: Idaho Power Co et al submits Second Revised Rate Schedule FERC No. 152 et al.

Filed Date: 12/29/2009.

Accession Number: 20091231-0230.

Comment Date: 5 p.m. Eastern Time on Tuesday, January 19, 2010.

Docket Numbers: ER10-529-000.

Applicants: PJM Interconnection, LLC.

Description: PJM Interconnection, LLC submits amendments to Schedule 12-Appendix.

Filed Date: 12/30/2009.

Accession Number: 20091231-0240.

Comment Date: 5 p.m. Eastern Time on Wednesday, January 20, 2010.

Docket Numbers: ER10-530-000.

Applicants: PJM Interconnection, LLC.

Description: PJM Interconnection, LLC submits an executed interconnection service agreement.

Filed Date: 12/31/2009.

Accession Number: 20091231-0241.

Comment Date: 5 p.m. Eastern Time on Thursday, January 21, 2010.

Docket Numbers: ER10-531-000.

Applicants: Southwest Power Pool, Inc.

Description: Southwest Power Pool, Inc submits a Network Integration Transmission Service Agreement.

Filed Date: 12/30/2009.

Accession Number: 20091231-0242.

Comment Date: 5 p.m. Eastern Time on Wednesday, January 20, 2010.

Docket Numbers: ER10-532-000.

Applicants: PJM Interconnection, LLC.

Description: PJM Interconnection, LLC submits an executed interconnection service agreement.

Filed Date: 12/30/2009.

Accession Number: 20091231-0244.

Comment Date: 5 p.m. Eastern Time on Wednesday, January 20, 2010.

Take notice that the Commission received the following electric securities filings:

Docket Numbers: ES10-21-000.

Applicants: AEP Texas North Company.

Description: Application by AEP Texas North Company Under Section 204 of the Federal Power Act for Authorization to Issue Securities.

Filed Date: 12/29/2009.

Accession Number: 20091229-5041.

Comment Date: 5 p.m. Eastern Time on Tuesday, January 19, 2010.

Take notice that the Commission received the following public utility holding company filings:

Docket Numbers: PH10-6-000.

Applicants: General Electric Company.

Description: Exemption Notification (Form FERC-65A) of General Electric Company.

Filed Date: 12/29/2009.

Accession Number: 20091229-5038.

Comment Date: 5 p.m. Eastern Time on Tuesday, January 19, 2010.

Docket Numbers: PH10-7-000.

Applicants: BlackRock, Inc.

Description: FERC 65A—Exemption Notification of Status as Passive Investors of BlackRock, Inc.

Filed Date: 12/31/2009.

Accession Number: 20091231-5093.

Comment Date: 5 p.m. Eastern Time on Thursday, January 21, 2010.

Take notice that the Commission received the following electric reliability filings:

Docket Numbers: RD10-9-000.

Applicants: North American Electric Reliability Corp.

Description: Errata Petition of the North American Electric Reliability Corporation for Approval of Corrected Reliability Standard FAC-010-2—System Operating Limits Methodology for the Planning Horizon.

Filed Date: 11/20/2009.

Accession Number: 20091120-5134.

Comment Date: 5 p.m. Eastern Time on Monday, January 25, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. 2010-481 Filed 1-12-10; 8:45 am]

BILLING CODE 6717-01-P